ENVIRONMENTAL PROTECTION AGENCY

[ER-FRL-8593-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 17, 2009 (74 FR 17860).

Draft EISs

EIS No. 20090045, ERP No. D-USN-K11023-00, West Coast Basing of the MV-22 Determining Basing Location(s) and Providing Efficient Training Operations, CA, AZ.

Summary: EPA expressed environmental concerns about impacts to air quality from the basing of the MV-22. Rating EC2.

EIS No. 20090057, ERP No. D-AFS-L65567-00, Wallowa-Whitman National Forest Invasive Plants Treatment Project, To Protect Native Vegetation by Controlling, Containing, or Eradicating Invasive Plant, Wallowa, Baker, Malheur, and Grant Counties, OR and Adams and Nez Perce Counties, ID.

Summary: EPA expressed environmental concerns about potential adverse impacts from herbicide treatments to water quality, especially for impaired water bodies. The final EIS should include mitigation measures ensuring weed treatments would not degrade water quality. Rating EC2.

EIS No. 20090070, ERP No. DS-AFS-K65312-CA, Pilgrim Vegetation Management Project, Updated Information to Address and Respond to the Specific Issues Identified in the Court Ruling. Implementation, Shasta-Trinity National Forest, Siskiyou County, CA.

Summary: EPA expressed environmental concerns about the potential inadvertent exposure of Sporax to humans and non-target species, as well as potential adverse impacts to snag-dependent and late successional species. Rating EC2.

Final EISs

EIS No. 20090068, ERP No. F-AFS-L05240-AK, Angoon Hydroelectric Project, Construction and Operation, Special Use Authorization, Thayer Creek, Admiralty Island National Monument, Tongass National Forest, AK.

Summary: The Final EIS adequately responded to our comments on environmental impacts to water quality and aquatic habitat; therefore, EPA does not object to this action.

EIS No. 20090072, ERP No. F-USN-E11066-00, Jacksonville Range Complex Project, To Support and Conduct Current and Emerging Training and RDT&E Operations, NC, SC, GA and FL.

Summary: EPA continues to have environmental concerns about the deposition of expended training materials and their accumulation over time.

EIS No. 20090119, ERP No. F-NPS-C65006-NY, Governors Island National Monument, General Management Plan, Implementation, New York Harbor, NY.

Summary: No formal comment letter was sent to the preparing agency.

EIS No. 20090084, ERP No. FA-BLM-K67011-NV, Betze Pit Expansion Project, Development of New Facilities and Expansion of Existing Open-Pit Gold Mining, Eureka and Elko Counties, NV.

Summary: EPA continues to have environmental concerns about potential ecological impacts from the cessation of mine dewatering and tailings closure. EPA recommends the ROD include a specific plan to successfully transition wetlands and irrigated croplands to upland salt-tolerant species at the end of infiltration activities, and describe tailings closure, associated ecological risks, and mitigation measures.

Dated: May 5, 2009.
Robert W. Hargrove,
Director, NEPA Compliance Division, Office of Federal Activities.

[FR Doc. E9-10772 Filed 5-7-09; 8:45 am]

BILLING CODE 6560-50-P